DEPARTMENT OF STATE

[Public Notice 8521]

In the Matter of the Designation of Jama'atu Ansarul Muslimina Fi Biladis-Sudan Also Known as Ansaru Aso Known as Ansarul Muslimina Fi Biladis Sudan Also Known as Vanguards for the Protection of Muslims in Black Africa Also Known as JAMBS Also Known as Jama'atu Ansaril Muslimina Fi Biladis Sudan as a Foreign Terrorist Organization Pursuant to Section 219 of the Immigration and Nationality Act, as Amended

Based upon a review of the Administrative Record assembled in this matter and in consultation with the Attorney General and the Secretary of the Treasury, I conclude that there is a sufficient factual basis to find that the relevant circumstances described in section 219 of the Immigration and Nationality Act, as amended (hereinafter “INA”) (8 U.S.C. 1189), exist with respect to Jama'atu Ansarul Muslimina Fi Biladis-Sudan, also known as Ansaru, also known as Ansarul Muslimina Fi Biladis Sudan, also known as Vanguards for the Protection of Muslims in Black Africa, also known as JAMBS, also known as Jama'atu Ansaril Muslimina Fi Biladis Sudan.

Therefore, I hereby designate the aforementioned organization and its aliases as a Foreign Terrorist Organization pursuant to section 219 of the INA.

This determination shall be published in the Federal Register.

Dated: November 5, 2013.
John F. Kerry,
Secretary of State.

[FR Doc. 2013-27293 Filed 11-13-13; 8:45 am]

BILLING CODE 4710-10-P